NUCLEAR REGULATORY COMMISSION

[NRC-2017-0001]

Sunshine Act Meeting

DATE: February 13, 20, 27, March 6, 13, 20, 2017.

PLACE: Commissioners' Conference Room, 11555 Rockville Pike, Rockville, Maryland.

STATUS: Public and Closed.

Week of February 13, 2017

Thursday, February 16, 2017

8:55 a.m. Affirmation Session (Public Meeting) (Tentative)

Southern Nuclear Operating Company, Inc. (Vogtle Electric Generation Plant, Units 3 and 4), Intervenor's Appeal of LBP-16-10 (Tentative)

This meeting will be webcast live at the Web address— http://www.nrc.gov/.

9:00 a.m. Briefing on Lessons Learned from the Fukushima Dai-ichi Accident (Public Meeting) (Contact: Andrew Proffitt: 301-415-1418)

This meeting will be webcast live at the Web address— http://www.nrc.gov/.

Friday, February 17, 2017

9:30 a.m. Briefing on Project Aim (Public Meeting) (Contact: Tammy Bloomer: 301-415-1785)

This meeting will be webcast live at the Web address— http://www.nrc.gov/.

Week of February 20, 2017—Tentative

Thursday, February 23, 2017

9:30 a.m. Joint Meeting of the Federal Energy Regulatory Commission and the Nuclear Regulatory Commission (Public Meeting) (Contact: Denise McGovern)

This meeting will be webcast live at the Web address— http://www.nrc.gov/.

Week of February 27, 2017—Tentative

Wednesday, March 1, 2017

10:00 a.m. Briefing on NRC International Activities (Closed Ex. 1 & 9)

Thursday, March 2, 2017

9:00 a.m. Strategic Programmatic Overview of the Fuel Facilities and the Nuclear Materials Users Business Lines (Public Meeting) (Contact: Soly Soto; 301-415-7528)

This meeting will be webcast live at the Web address— http://www.nrc.gov/.

Week of March 6, 2017—Tentative

There are no meetings scheduled for the week of March 6, 2017.

Week of March 13, 2017—Tentative

There are no meetings scheduled for the week of March 13, 2017.

Week of March 20, 2017—Tentative

Thursday, March 23, 2017

9:00 a.m. Hearing on Combined Licenses for North Anna Nuclear Plant, Unit 3: Section 189a. of the Atomic Energy Act Proceeding (Public Meeting) (Contact: James Shea: 301-415-1388)

This meeting will be webcast live at the Web address— http://www.nrc.gov/.

Friday, March 24, 2017

10:00 a.m. Briefing on the Annual Threat Environment (Closed Ex. 1)

* * * * *

The schedule for Commission meetings is subject to change on short notice. For more information or to verify the status of meetings, contact Denise McGovern at 301-415-0981 or via email at Denise.McGovern@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g., braille, large print), please notify Kimberly Meyer, NRC Disability Program Manager, at 301-287-0739, by videophone at 240-428-3217, or by email at Kimberly.Meyer-Chambers@nrc.gov. Determinations on requests for reasonable accommodation will be made on a case-by-case basis.

* * * * *

Members of the public may request to receive this information electronically. If you would like to be added to the distribution, please contact the Nuclear Regulatory Commission, Office of the Secretary, Washington, DC 20555 (301-415-1969), or email Brenda.Akstulewicz@nrc.gov or Patricia.Jimenez@nrc.gov.

Dated: February 9, 2017.
Denise L. McGovern,
Policy Coordinator, Office of the Secretary.

[FR Doc. 2017-02938 Filed 2-9-17; 4:15 pm]

BILLING CODE 7590-01-P